DEPARTMENT OF COMMERCE

Foreign-Trade Zones Board

[B-39-2018]

Foreign-Trade Zone (FTZ) 106—Oklahoma City, Oklahoma; Notification of Proposed Production Activity; Eastman Kodak Company (Printing Flexographic Plates); Weatherford, Oklahoma

Eastman Kodak Company (Eastman Kodak) submitted a notification of proposed production activity to the FTZ Board for its facility in Weatherford, Oklahoma. The notification conforming to the requirements of the regulations of the FTZ Board (15 CFR 400.22) was received on June 13, 2018.

Eastman Kodak already has authority to produce flexographic finished plates, aluminum finished printing plates, thermo imaging layer, direct imaging recording film sheets, and direct imaging record film rolls within Subzone 106F. The current request would add foreign status materials/components to the scope of authority. Pursuant to 15 CFR 400.14(b), additional FTZ authority would be limited to the specific foreign-status materials/components described in the submitted notification (as described below) and subsequently authorized by the FTZ Board.

Production under FTZ procedures could exempt Eastman Kodak from customs duty payments on the foreign-status materials/components used in export production. On its domestic sales, for the foreign-status materials/components noted below, Eastman Kodak would be able to choose the duty rates during customs entry procedures that apply to finished products in the existing scope of authority. Eastman Kodak would be able to avoid duty on foreign-status components which become scrap/waste. Customs duties also could possibly be deferred or reduced on foreign-status production equipment.

The materials/components sourced from abroad include non-aromatic esters of amino-acids, propylene oxide-modified trimethylol propane triacrylate and foamed polyethylene resin sheet (packaging material used between plates) (duty rates range from 3% to 6.5%).

Public comment is invited from interested parties. Submissions shall be addressed to the Board's Executive Secretary at the address below. The closing period for their receipt is August 6, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: June 19, 2018.
Andrew McGilvray,
Executive Secretary.

[FR Doc. 2018-13540 Filed 6-22-18; 8:45 am]

BILLING CODE 3510-DS-P